DEPARTMENT OF LABOR

Employment and Training Administration

[TA-W-75,099]

West, A Thomson Reuters Business, Thomson Reuters Legal Division, Including On-Site Leased Workers From Adecco, Albuquerque, New Mexico; Notice of Termination of Reconsideration Investigation

On April 28, 2011, the Department of Labor (Department) issued an Affirmative Determination Regarding Application for Reconsideration for workers and former workers of West, A Thomson Reuters Business, Thomson Reuters Legal Division, including On-Site Leased Workers from Adecco, Albuquerque, New Mexico. The Department's Notice of affirmative determination was published in the Federal Register on May 11, 2011 (76 FR 27365).

On July 20, 2011, the Department issued an amended certification applicable to workers and former workers of West, A Thomson Reuters Business, Thomson Reuters Legal, including on-site leased workers from Adecco, including a teleworker located in Albuquerque, New Mexico reporting to Eagan, Minnesota (TA-W-73,198). The Department's Notice of amended certification will soon be published in the Federal Register.

Because the petitioning group of workers is covered by an existing certification which expires on June 21, 2012, further investigation in this case would serve no purpose, and the reconsideration investigation has been terminated.

Conclusion

After careful review of the administrative record and the findings of the reconsideration investigation, I am terminating the investigation of the petition for worker adjustment assistance filed on behalf of workers and former workers of West, A Thomson Reuters Business, Thomson Reuters Legal Division, including on-site leased workers from Adecco, Albuquerque, New Mexico.

Signed in Washington, DC, on this 29th day of July, 2011.
Del Min Amy Chen,
Certifying Officer, Office of Trade Adjustment Assistance.

[FR Doc. 2011-20527 Filed 8-11-11; 8:45 am]

BILLING CODE 4510-FN-P